NATIONAL AERONAUTICS AND SPACE ADMINISTRATION

[Notice 04-150]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: December 29, 2004.

FOR FURTHER INFORMATION CONTACT: Robert M. Padilla, Patent Counsel, Ames Research Center, Code 202A-4, Moffett Field, CA 94035-1000; telephone (650) 604-5104; fax (650) 604-2767.

NASA Case No. ARC-14165-1: Secondary Polymer Layered Impregnated Tile (SPLIT);

NASA Case No. ARC-14650-2: Light-Based Encryption System;

NASA Case No. ARC-14661-2: Improved Functionalization Of Carbon Nanotubes;

NASA Case No. ARC-14744-1US: Ordered Biological Nanostructures Formed From Chaperonin Polypeptides;

NASA Case No. ARC-15041-1: Identification Of Atypical Flight Patterns;

NASA Case No. ARC-15102-1: Reduced Latency In Image Presentation;

NASA Case No. ARC-15204-1: Rapid Polymer Sequencer;

NASA Case No. ARC-15205-1: Biosensors Using Carbon Nanotube Nanoelectrode Arrays;

NASA Case No. ARC-14652-1: 3d Laser Scanner;

NASA Case No. ARC-14653-1: Air Traffic Management Evaluation Tool;

NASA Case No. ARC-14743-2: Improved High Emittance Gap Filler;

NASA Case No. ARC-14950-1: Project Management Tool;

NASA Case No. ARC-15041-2: Information Display System For Atypical Flight Phase;

NASA Case No. ARC-15089-1: Query-Based Document Composition;

NASA Case No. ARC-15157-1: Conversion Of Type Of Quantum Well Structure;

NASA Case No. ARC-15201-2: Toughened Uni-piece Fibrous Reinforced Oxidation-Resistant Composite (TUFROC);

NASA Case No. ARC-15356-1: Energy Index For Aircraft Maneuvers;

NASA Case No. ARC-15370-1: Selective Access And Editing In A Database.

Dated: December 10, 2004.
Keith T. Sefton,
Deputy General Counsel, Administration and Management.

[FR Doc. 04-28510 Filed 12-28-04; 8:45 am]

BILLING CODE 7510-13-P